DEPARTMENT OF JUSTICE

Antitrust Division

Notice Pursuant to the National Cooperative Research and Production Act of 1993—Secure Digital Music Initiative

Notice is hereby given that, on September 21, 2000, pursuant to Section 6(a) of the National Cooperative Research and Production Act of 1993, 15 U.S.C. 4301 et seq. (“the Act”), Secure Digital Music Initiative (“SDMI”) has filed written notifications simultaneously with the Attorney General and the Federal Trade Commission disclosing changes in its membership status. The notifications were filed for the purpose of extending the Act's provisions limiting the recovery of antitrust plaintiffs to actual damages under specified circumstances. Specifically, Amplified.com, Atlanta, GA; Chaw Khong Technology Co., Ltd., Taipei Hsien, Taiwan; Destiny Media Technologies, Inc., Vancouver, British Columbia, Canada; DiscoverMusic.com, Inc., Seattle, WA; Dx3 Europe AB, Stockholm, Sweden; eInnovations (Engineering Innovations), Lanham, MD; France Telecom, Paris, France; Fujitsu Limited, Yamagata, Japan; FullAudio Corp., Chicago, IL; Grundig Digital Systems, San Jose, CA; Internet, GIG.com, Inc., San Francisco, CA; Massive Media Group, Inc., Santa Monica, CA; MCOS, London, United Kingdom; MiBrary.com, Inc., New York, NY; Oberthur Card Systems, Paris, France; Parthus Technologies, Dublin, Ireland; Preview Systems, Inc., Portland, OR; RioPort.com, Inc., San Jose, CA; Siemens AG, Munich, Germany; Telefonica, Madrid, Spain; Verance Corporation, Rockville, MD; and Vitaminic SpA, Torino, Italy have been added as parties to this venture. Also, Audiohighway.com, Cupertino, CA; AudioSoft, Geneva, Switzerland; Be, Incorporated, Menlo Park; CA; Bose Corporation, Framingham, MA; Cductive.com, New York, NY; Channelware, Inc., Nepean, Ontario, Canada; Cinram International, Inc., Ontario, Canada; Deutsche Telekom AG, Bonn, Germany; Digital River Inc., Eden Prairie, MN; DIVX, Herndon, VA; Emusic, Inc., Redwood City, CA; Entrust Technologies, Ontario, Canada; Etantrum, Dulles, VA; ExtraSpecial, Inc., San Francisco, CA; HMV Media Group, Berks, United Kingdom; Infineon Technologies, Munich, Germany; Intervu, Inc., San Diego, CA; Kent Ridge Digital Labs, Heng Mui, Singapore; Media Fair, Inc., Monterey Park, CA; Memory Corporation, Dalkeith, Edinburgh, Scotland, United Kingdom; Music.co.jp, Inc., Tokyo, Japan; NTT Mobile Communications Network, Tokyo, Japan; Plug 'n Pay Technologies, Hauppauge, NY; Qpass, Seattle, WA; Softlock, Rochester, NY; Sonic Solutions, Novato, CA; SpectraNet Communications, Inc.—Throttlebox, Johnson City, NY; Sun Microsystems, Menlo Park, CA; TDK Electronics Corp., Port Washington, NY; Unitech Electronics Co., Ltd., Seoul, Republic of Korea; ViaTech, Inc., Natick, MA; Waveless Radio Consortium, Tokyo, Japan; Xerox Corporation, El Segundo, CA; and Ziplabs PTE Ltd., Singapore Science Park, Singapore have been dropped from the venture.

No other changes have been made made in either the memberships or planned activity of the group research project. Membership in this group research project remains open, and SDMI intends to file additional written notification disclosing all changes in membership.

On June 28, 1999, SDMI filed its original notification pursuant to Section 6(a) of the Act. The Department of Justice published a notice in the Federal Register pursuant to Section 6(b) of the Act on December 2, 1999 (64 FR 67591).

The last notification was filed with the Department on June 23, 2000. A notice was published in the Federal Register pursuant to Section 6(b) of the Act on August 11, 2000 (65 FR 49267).

Constance K. Robinson,
Director of Operations, Antitrust Division.

[FR Doc. 00-29981 Filed 11-22-00; 8:45 am]

BILLING CODE 4410-11-M